DEPARTMENT OF JUSTICE

National Institute of Corrections

Solicitation for a Cooperative Agreement—Curriculum Development for MET, ECCP, and ICMS Training Project

AGENCY: National Institute of Corrections, U.S. Department of Justice.

ACTION: Solicitation for a cooperative agreement.

SUMMARY: The National Institute of Corrections (NIC) is soliciting proposals from organizations, groups, partnerships of organization and groups, or individuals to enter into a cooperative agreement for a 12-month project period to develop curricula, pilot them, and participate in the planning for the delivery of three closely related training programs. These training programs, together with other training components being developed separately, will ultimately be delivered at the beginning of 2013 as part of the training correctional staff and treatment providers will receive during the Second Chance Act/Demonstration Field Experiment (SCA/DFE). This project is a joint effort being carried out by the Bureau of Justice Assistance (BJA), the National Institute of Justice (NIJ), and NIC. To successfully integrate the entire project, these three programs will be developed together and piloted during the first 6 months of this award. Also during this six-month period and for the remainder of the project, the awardee will participate in the planning for the delivery of each training component to staff and treatment providers at the DFE sites.

The three training curricula to be developed under this award are as follows:

Training #1

The first training to be developed will be Effective Core Correctional Practices (ECCP), which will be based on similar programs developed in recent years (such as STICS, EPICS, STARR and the like). This competency-based curriculum will be used to train line level staff using an integrated case management approach within a desistance framework in working with parolees.

Training #2

The second training will focus on the basics of Integrated Case Management and Supervision (ICMS), with an additional focus on supervision officers working with community service providers to coordinate and track services received by parolees.

Training #3

The third training will be on the use of Motivational Enhancement Therapy (MET) by treatment providers working with parolees. This revised MET curriculum will be an adaptation of the traditional MET's emphasis on substance abuse to include a broader focus on criminal thinking and behavior.

The SCA/DFE will be a multi-year effort and awardees under this solicitation will also be eligible to continue to participate in the project with additional funding to be awarded in 2013. Tasks under that future award will include training delivery, quality assurance, follow-up coaching, refresher training, monitoring the fidelity of the training, and other technical assistance to the SCA/DFE sites. Because the selection of the SCA/DFE sites is ongoing, the details of these tasks will be defined as part of the planning process which will in turn inform the future work.

DATES: Applications must be received by 4 p.m. EDT on Monday, April 23, 2012.

Submissions: Applicants are strongly encouraged to submit their proposals electronically via http://www.grants.gov. Applications may also be submitted to: Director, National Institute of Corrections, 320 First Street NW., Room 5002, Washington, DC 20534. Applicants submitting proposals non-electronically should provide an original and three unbound copies of all documents. The original proposal should be submitted with the applicant's signatures in blue ink. Applicants are encouraged to use Federal Express, UPS, or similar service to ensure delivery by the due date. Faxed applications will not be accepted.

FOR FURTHER INFORMATION CONTACT: All technical or programmatic questions concerning this announcement, including additional information about the background or format of the training, should be directed to Christopher A. Innes, Ph.D., Chief, Research and Information Services Division, National Institute of Corrections. He can be reached by calling (202) 514-0098 or by email at cinnes@bop.gov. Questions, answers, and additional information on this solicitation will be posted and updated regularly on http://nicic.gov/ during the time this solicitation remains open.

Related Solicitation

Please note that NIC has issued a second separate, but closely related solicitation titled, “Development of Core Correctional Practice Curriculum” which concerns the development of blended learning materials for ECCP training. Two separate awards will be made through these two solicitations. Applicants may submit a separate proposal in response to the second solicitation, but the award under this solicitation will be made independently and each project will be managed separately.

SUPPLEMENTARY INFORMATION: The Bureau of Justice Assistance issued a request for proposals titled, “Second Chance Act Demonstration Field Experiment: Fostering Desistance through Effective Supervision”, seeking agencies interested in participating in an innovative intervention using a desistance approach as part of a randomized controlled trial experiment in prisoner reentry. BJA anticipates that it will make awards to up to four sites for what is expected to be a three-year project. The selection of the demonstration sites is in progress and sites will be expected to fully implement the intervention early in 2013. The BJA solicitation closed on February 23, 2012 and the applications from the sites to participate in the project are under review. Applicants responding to this solicitation are strongly encouraged to familiarize themselves with the description of the project and research design in the BJA solicitation. Please visit the Office of Justice Programs (OJP) SCA DFE site at: http://www.ojp.usdoj.gov/funding/scadfe.htm and for the full text of the BJA solicitation, see: http://www.ojp.usdoj.gov/BJA/grant/12SecondChanceDFEsol.pdf.

Please note that the BJA solicitation provided specific numbers of days expected for the on-site training. However, the length of each training program is subject to modification as necessary. Applicant should propose training program designs that are of adequate length to deliver the program content, but are encouraged to consider blended learning strategies to keep the on-site portion of the training to a reasonable limit.

The SCA/DFE is a multi-site, multi-year project that will provide a rigorous test of a reentry model designed to: (1) Improve offenders' motivation to change; (2) address cognitive and behavioral functioning regarding criminal thinking and behaviors; and (3) address core factors that affect offender performance while under community supervision following release from prison. For this project, only offenders who are assessed as moderate- to high-risk for re-offending will be recruited to participate. To qualify for a SCA/DFE award, sites must have in place a reentry program that includes assessing offenders and using the results to tailor reentry plans to individuals.

As described in the BJA solicitation, NIC has the responsibility of organizing and delivering all of the training for line staff and community-based service providers. Line staff will receive ECCP training (training #1), which should include skills building in relationships, coaching, problem-solving, motivational enhancement, role clarification and the use of authority, and using reinforcement and disapproval effectively. Line staff will also receive training in the key elements from the ICMS approach (training #2) that are focused on using risk and needs assessments to match appropriate treatment or programming options, coordinated services, follow-up, and community collaboration.

Treatment providers will receive training on using MET in working with parolees (training #3). Both groups will receive education and training in the desistence model (this training is being developed under a separate cooperative agreement). All of the training developed under this award will also be designed to complement NIC's Thinking for a Change (T4C) cognitive behavioral training program. NIC has recently revised the T4C training (see http://nicic.gov/T4c for full information on this training). In the SCA/DFE design, parolees will receive the T4C program as part of the intervention (that training will be delivered by NIC), in conjunction with MET.

The SCA/DFE project sites will also receive program quality assurance assessment, and feedback/coaching or technical assistance as needed throughout the project. Awardees under this solicitation will participate in the planning for the coordination and delivery of these additional services and will also be eligible to receive future funding to assist in the delivery of these services to the SCA/DFE sites.

Statement of Work

(1) Design and pilot a curriculum for Effective Core Correctional Practices (ECCP) Training: The awardee under this solicitation will be responsible for the development and piloting of an ECCP curriculum designed to be delivered to staff at the SCA/DFE sites. In recent years, several curricula have been developed to train line-level correctional staff in working with people under correctional supervision. These include Strategic Training Initiative in Community Supervision (STICS) by Public Safety Canada, Effective Practices in Community Supervision (EPICS) by the University of Cincinnati Corrections Institute, and Strategic Techniques Aimed at Reducing Re-arrest (STARR) from the Administrative Office of the United States Courts, Office of Probation and Pretrial Services as well others. These approaches for individual offender interventions use somewhat differing combinations of cognitive-behavioral techniques, motivational enhancement, cognitive restructuring, relationship building, and role clarification. The ECCP training program to be developed by the awardee under this solicitation will combine these elements and blend them with ICMS approaches and the Desistance Model. The awardee under this solicitation will develop both a curriculum and facilitators manual for Training for Trainers (T4T) and the curriculum for the training program the trainers will deliver to line staff.

(2) Design and pilot a curriculum for Integrated Case Management (ICMS). The awardee under this solicitation will be responsible for the development and piloting of an ICMS curriculum designed to be delivered to staff at the SCA/DFE sites. The key elements from the ICMS approach that are most important to the project are assessment, matching treatment or programming, coordinated services, follow-up, and community collaboration. The training should be modeled after NIC's Transition from Prison to the Community Project's materials. These include the TPC Case Management Handbook: An Integrated Case Management (ICM) Approach and the TPC Reentry Handbook: Implementing the NIC Transition from Prison to the Community Model (see http://nicic.gov/TPJC for both documents). The ICMS training program to be developed by the awardee under this solicitation will combine these elements and blend them with ECCP and the Desistance Model. The awardee under this solicitation will develop both a curriculum and facilitators manual for Training for Trainers (T4T) and the curriculum for the training program the trainers will deliver to line staff.

(3) Design and pilot a curriculum for Motivational Enhancement Training (MET): The awardee under this solicitation will be responsible for the development and piloting of an MET curriculum designed to be delivered to treatment providers at the SCA/DFE sites. Motivational Enhancement Therapy (MET) is an approach that has proven effective, particularly in working with people with substance abuse issues. It is a short intervention that begins with the assumption that clients will be better able to change their behavior when they develop a sense of intrinsic motivation and feel themselves able to make significant changes in their life. The approach is based primarily on Motivational Interviewing techniques developed by William R. Miller and Stephen Rollnick (1991). It is derived from a number of sources, including stages of change theory (Prochaska and DiClemente, 1984), other strength-based, client-centered approaches, and research on clinical practices that are associated with client success.

In their book on the principles of motivational interviewing, Miller and Rollnick identified five strategies to use in employing this approach; (1) Expressing empathy and acceptance through respect and support instead of confrontation; (2) helping clients see the contrast between their behavior and their own desired goals; (3) avoiding arguments by letting the client talk about changing; (4) managing resistance by empathetically reflecting the client's resistance to change; and (5) supporting self-efficacy by helping the client believe that he or she can change.

MET was designed as a standardized approach in Project MATCH, a nine-site clinical trial of patient-treatment matching sponsored by the National Institute of Alcohol Abuse and Alcoholism (see Miller et al., 1995). The MET strategy is not designed to train clients through a step by step process of change. Instead, it can be used to prepare a client for a more structured intervention to follow. The MET approach differs from cognitive-behavioral treatment strategies that teach specific skills and, in the SCA/DFE project, parolees will receive the Thinking for a Change program while at the same time working with treatment providers using skills they developed in the MET training. Under the cooperative agreement to be awarded under this solicitation, the awardee will develop a curriculum and assist in the planning for the delivery of training, with follow up coaching as necessary, to the treatment providers at each of the SCA/DFE sites. While the original MET training focused on substance abuse issues, this curriculum should be more broadly tailored to offenders. A typical MET intervention is structured around four sessions with the client. The awardee under this solicitation will work closely with NIC, the Federal partners, subject matter experts, and the evaluation team to design an MET approach appropriate for the SCA/DFE intervention which may differ from the traditional four session structure. Applicants are encouraged to include their ideas on this subject in their proposals.

The revised MET intervention developed under this solicitation should be compatible with a focus on criminal thinking and behaviors to blend seamlessly with the subject in NIC's T4C program (such as antisocial/pro-criminal attitudes, values and beliefs; criminal associates; temperament and personality factors; family factors; low levels of education, vocational or financial achievement; and substance use) and the other components of the intervention included in the ECCP and crime desistance. The awardee under this solicitation will develop both a curriculum and facilitators manual for Training for Trainers (T4T) and the curriculum for the training program the trainers will deliver to line staff. MET References: Miller, W. R., & Rollnick, S. (1991). Motivational interviewing: Preparing people to change addictive behavior. New York: Guilford; Miller, W. R., Zweben, A., DiClemente, C. C., & Rychtarik, R. G. (1995). Motivational enhancement therapy (MET) manual. (Vol. 2). Project MATCH Monograph Series. Rockville, MD: National Institute on Alcohol Abuse and Alcoholism; Prochaska, J. O., & DiClemente, C. C. (1984). The transtheoretical approach: Crossing traditional boundaries of therapy. Homewood, IL: Dow Jones-Irwin.

Tasks to be performed under this cooperative agreement include; (1) Creation of curricula for ECCP training. The awardee under this solicitation will develop both a trainer for trainers (T4T) program and a training curriculum for line staff for the trainers to deliver on-site. The curricula should allow for the use of blended elements, including classroom or individual instruction, e-courses, virtual instructor led training and coaching/feedback. The curriculum must use NIC's Instructional Theory into Practice (ITIP) model (see http://nicic.gov/Training/NICWBT16 and http://nicic.gov/Library/010714). In addition to developing the ECCP curricula, the awardee will also develop and deliver a facilitator's manual and any other supplementary material necessary for the delivery of the training.

(2) Creation of curricula for ICMS training. The awardee under this solicitation will develop both a trainer for trainers (T4T) program and a training curriculum for line staff for the trainers to deliver on-site. The curricula should allow for the use of blended elements, including classroom or individual instruction, e-courses, virtual instructor led training and coaching/feedback. The curriculum must use NIC's Instructional Theory into Practice (ITIP) model (see http://nicic.gov/Training/NICWBT16 and http://nicic.gov/Library/010714). In addition to developing the ICMS curricula, the awardee will also develop and deliver a facilitator's manual and any other supplementary material necessary for the delivery of the training.

(3) Creation of a curriculum to train service providers in the use of MET that can be delivered as on-site training. The awardee under this solicitation will develop both a trainer for trainers (T4T) program and a training curriculum for line staff for the trainers to deliver. The curriculum should allow for the use of blended elements, including classroom or individual instruction, e-courses, virtual instructor led training, and coaching/feedback. The curriculum must use NIC's Instructional Theory into Practice (ITIP) model (see http://nicic.gov/Training/NICWBT16 and http://nicic.gov/Library/010714). In addition to developing the MET curricula, the awardee will also develop and deliver a facilitator's manual and any other supplementary material necessary for the delivery of the training. For the MET training, this should include a revision of the personal feedback report commonly used in MET sessions.

(4) Pilot testing of all of the curricula and revisions to each curriculum after the pilot. The design of the pilots and curricula revisions will be carried out in consultation with NIC and the other Federal partners, subject matter experts, and the evaluation team.

(5) Development, in consultation with NIC staff, Federal partners, subject matter experts, and the evaluation team, of instruments to aid in the evaluation of the training under this project, including knowledge tests.

(6) Participation in development and planning meetings with NIC staff, Federal partners, subject matter experts, and the evaluation team to coordinate the curriculum development and planning for training delivery. Awardee expenses for these meeting are limited to the awardee's own project team's costs of travel, lodging, meals, incidental expenses, and compensation. Awardees should plan on up to four, two-day meetings. (For budgeting purposes, applicants may assume that 2 meetings will take place at the NIC National Corrections Academy in Aurora, Colorado, and two at NIC's offices in Washington, DC) To conform to DOJ rules, all project team members who may be attending these planning meetings must be listed by name in the proposal. Participation in other planning and coordination meetings will take place as necessary throughout the life of the project through teleconferences and WebEx meetings as required.

(7) Delivery of a full report on the project together with the final, edited versions of all materials developed during the project in a design and format appropriate for public dissemination. A draft of these materials must be submitted prior to the end of the project and follow NIC's specific requirements for documents or other media.

Specific Requirements: Documents or other media that are produced under this award must follow these guidelines: Prior to the preparation of the final draft of any document or other media, the awardee must consult with NIC's Writer/Editor concerning the acceptable formats for manuscript submissions and the technical specifications for electronic media. The awardee must follow the guidelines listed herein, as well as follow the Guidelines for Preparing and Submitting Manuscripts for Publication as found in the “General Guidelines for Cooperative Agreements,” which can be found on our Web site at www.nicic.gov/cooperativeagreements.

All final documents and other media submitted under this project will be posted on the NIC Web site and must meet the Federal Government's requirement for accessibility (i.e., 508 PDF or HTML files). The awardee must provide descriptive text interpreting all graphics, photos, graphs, and/or multimedia to be included with or distributed alongside the materials and must provide transcripts for all applicable audio/visual works.

Application Requirements: Applications should be concisely written, typed, double spaced, and reference the project by the “NIC Opportunity Number” and Title in this announcement. The package must include: a cover letter that identifies the audit agency responsible for the applicant's financial accounts as well as the audit period or fiscal year that the applicant operates under (e.g., July 1 through June 30); a program narrative, not to exceed 30 pages, in response to the statement of work, and a budget narrative explaining projected costs. Applicants may submit a description of the project teams' qualifications and expertise relevant to the project, but should not attach lengthy resumes. Large attachments to the proposal describing the organization or examples of other past work are discouraged.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf. Failure to supply all required forms with the application package may result in disqualification of the application from consideration.

Authority: Pub. L. 93-415.

Funds Available: NIC is seeking the applicant's best ideas regarding accomplishment of the scope of work and the related costs for achieving all seven of the goals of this solicitation. The award under this solicitation will be based on best value and quality of the work as defined under the scope of work outlined above. Funds may only be used for the activities that are directly linked to the tasks of the project.

This project will be a collaborative venture with the NIC's National Corrections Academy and its Research and Information Services Division.

Eligibility of Applicants: An eligible applicant is any public or private agency, educational institution, organization, individual, or team with expertise in the described areas.

Review Considerations: Applications received under this announcement will be subject to the NIC Review Process. Proposals which fail to provide sufficient information to allow evaluation under the criteria below may be judged non-responsive and disqualified.

The criteria for the evaluation of each application will be as follows:

Programmatic (40%)

Are all of the seven project tasks adequately discussed? Is there a clear statement of how each task will be accomplished, to include: major sub-tasks, the strategies to be employed, required staffing, and other required resources? Are there any innovative approaches, techniques, or design aspects proposed that will enhance the project?

Organizational (35%)

Does the proposed project staff possess the skills, knowledge, and expertise necessary to complete the tasks listed under the scope of work? Does the applicant organization, group, or individual have the organizational capacity to achieve all seven project tasks? Are the proposed project management and staffing plans realistic and sufficient to complete the project within the project time frame?

Project Management/Administration (25%)

Does the applicant identify reasonable objectives, milestones, and measures to track progress? If consultants and/or partnerships are proposed, is there a reasonable justification for their inclusion in the project, and a clear structure to insure effective coordination? Is the proposed budget realistic, provide sufficient cost detail/narrative, and represent good value relative to the anticipated results?

Note: NIC will NOT award a cooperative agreement to an applicant who does not have a Dun and Bradstreet Database Universal Number (DUNS) and is not registered in the Central Contractor Registry (CCR). A DUNS number can be received at no cost by calling the dedicated toll-free DUNS number request line at 1-800-333-0505 (if you are a sole proprietor, you would dial 1-866-705-5711 and select option 1). Registration in the CRR can be done online at the CCR Web site: http://www.bpn.gov/ccr. A CCR Handbook and worksheet can also be reviewed at the Web site.

Number of Awards: One.

NIC Opportunity Number: 12RE05. This number should appear as a reference line in the cover letter, where indicated on Standard Form 424, and outside of the envelope in which the application is sent.

Catalog of Federal Domestic Assistance Number: 16.601.

Executive Order 12372: This project is not subject to the provisions of Executive Order 12372.

Morris L. Thigpen,
Director, National Institute of Corrections.

[FR Doc. 2012-6849 Filed 3-20-12; 8:45 am]

BILLING CODE 4410-36-P